NUCLEAR REGULATORY COMMISSION

Advisory Committee on Nuclear Waste; Notice of Meeting

The Advisory Committee on Nuclear Waste (ACNW) will hold its 159th meeting on April 18-19, 2005, Room T-2B3, Two White Flint North, 11545 Rockville Pike, Rockville, Maryland. The date of this meeting was previously published in the Federal Register on Wednesday, December 8, 2004 (69 FR 71084).

The schedule for this meeting is as follows:

Monday, April 18, 2005

10:30 a.m.-10:40 a.m.: Opening Statement (Open)—The ACNW Chairman will make opening remarks regarding the conduct of today's sessions.

10:40 a.m.-12 noon: Preparation of ACNW Reports (Open)—The Committee will discuss potential letter reports on Ground Water Recharge Model Abstraction and Validation, and Time-Period of Compliance for a Proposed High-Level Waste Geologic Repository. Other potential letter reports may be discussed.

1:30 p.m.-3:30 p.m.: NMSS Division Directors' Quarterly Program Update (Open)—The NMSS Division Directors will brief the Committee on recent activities of interest within their respective programs.

3:45 p.m.-4:45 p.m.: ACNW White Paper on Low-Level Radioactive Waste (Open)—The Committee will comment on the draft outline for the proposed White Paper. In addition, the Committee will discuss progress on specific sections of this White Paper, for example Section 1, “Origins and History.”

4:45 p.m.-5:30 p.m.: Discussion of April 14-15, 2005, Visit to the Center for Nuclear Waste Regulatory Analyses (CNWRA) (Open)—An ACNW Subcommittee will report on the outcome of its recent visit to the CNWRA to review ongoing technical assistance work for NMSS' HLW programs.

Tuesday, April 19, 2005

8:30 a.m.-8:40 a.m.: Opening Remarks by the ACNW Chairman (Open)—The ACNW Chairman will begin the meeting with brief opening remarks, outline the topics to be discussed, and indicate items of interest.

8:40 a.m.-9:40 a.m.: National Source Tracking System (Open)—The Committee will receive a briefing by and hold discussions with representatives of the NMSS staff regarding the current rulemaking efforts regarding the National Source Tracking System.

9:40 a.m.-11:40 a.m.: Department of Energy (DOE) Repository Design (Open)—The Committee will be briefed by representatives from the U.S. Department of Energy on the status of the design of the proposed geologic repository at Yucca Mountain, Nevada.

1 p.m.-2 p.m.: Transportation Aspects of the Yucca Mountain Environmental Impact Statement (EIS) Update (Open)—The Committee will hear a briefing by and hold discussions with representatives of DOE regarding the updates to the Yucca Mountain final EIS in light of the Department's specification of preferred transportation method and route for radioactive waste to the Yucca Mountain site.

2 p.m.-3:30 p.m.: Electric Power Research Institute (EPRI) Topical Report on Future System States (Open)—The Committee will be briefed on the conclusions and recommendations from EPRI's recently published report on the treatment of future system states in long time-frame performance assessments.

3:45 p.m.-4:30 p.m.: Japan Waste Management Visit (Open)—The ACNW members will discuss final preparation for their May 14-21, 2005, trip to visit nuclear waste facilities and regulators in Japan.

4:30 p.m.-5:30 p.m.: Discussion of Possible Letters (Open)—The Committee will discuss prepared letters and determine whether letters would be written on topics discussed during the meeting.

5:30 p.m.-6 p.m.: Miscellaneous (Open)—The Committee will discuss matters related to the conduct of ACNW activities, and specific issues that were not completed during previous meetings, as time and availability of information permit. Discussions may include future Committee Meetings.

Wednesday and Thursday, April 20-21, 2005: NRC Decommissioning Workshop

The workshop is being held as part of the NRC staff's initiatives to continually improve the licensing process for decommissioning sites and terminating NRC licenses in accordance with 10 CFR part 20, subpart E. The ACNW will attend this workshop as observers. For more information on the workshop or to register on-line, visit: http://www.nrc.gov/public-involve/conference-symposia/decommissioning.html.

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Ms. Sharon A. Steele (telephone (301) 415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Ms. Steele as to their particular needs.

Further information regarding topics to be discussed, whether the meeting has been canceled or rescheduled, the Chairman's ruling on requests for the opportunity to present oral statements and the time allotted, therefore can be obtained by contacting Ms. Steele.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service.

Individuals or organizations requesting this service will be responsible for telephone line charges and for providing the equipment and facilities that they use to establish the video teleconferencing link. The availability of video teleconferencing services is not guaranteed.

Dated: April 1, 2005.
Andrew L. Bates,
Advisory Committee Management Officer.

[FR Doc. E5-1597 Filed 4-6-05; 8:45 am]

BILLING CODE 7590-01-P